DEPARTMENT OF TRANSPORTATION

Federal Aviation Administration

14 CFR Part 39

[Docket No. FAA-2011-0381; Directorate Identifier 2010-NM-203-AD; Amendment 39-16799; AD 2011-18-17]

RIN 2120-AA64

Airworthiness Directives; Bombardier, Inc. Model DHC-8-400 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Several reports have been received on failures of the main landing gear (MLG) stabilizer extension springs. A landing gear audit has confirmed that the MLG may not lock in the down-lock position with the absence of both MLG stabilizer extension springs. The loss of the locking mechanism could result in the collapse of the main landing gear.

* * * * *

We are issuing this AD to require actions to correct the unsafe condition on these products.

DATES: This AD becomes effective October 18, 2011.

The Director of the Federal Register approved the incorporation by reference of a certain publication listed in this AD as of October 18, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Fabio Buttitta, Aerospace Engineer, Airframe and Mechanical Systems Branch, ANE-171, FAA, New York Aircraft Certification Office, 1600 Stewart Avenue, Suite 410, Westbury, New York 11590; telephone (516) 228-7303; fax (516) 794-5531.

SUPPLEMENTARY INFORMATION:

Discussion

We issued a notice of proposed rulemaking (NPRM) to amend 14 CFR part 39 to include an AD that would apply to the specified products. That NPRM was published in the Federal Register on April 19, 2011 (76 FR 21820). That NPRM proposed to correct an unsafe condition for the specified products. The MCAI states:

Several reports have been received on failures of the main landing gear (MLG) stabilizer extension springs. A landing gear audit has confirmed that the MLG may not lock in the down-lock position with the absence of both MLG stabilizer extension springs. The loss of the locking mechanism could result in the collapse of the main landing gear.

This [TCCA] directive is to mandate the incorporation of a new maintenance task for the MLG stabilizer extension springs.

You may obtain further information by examining the MCAI in the AD docket.

Comments

We gave the public the opportunity to participate in developing this AD. We considered the comment received.

Request to Reference Latest Revision of the Maintenance Review Board Report

Merle Mattson requested that we revise paragraph (g) of the NPRM (76 FR 21820, April 19, 2011), to reference the latest permanent revision of the Bombardier Q400 Dash 8 Maintenance Requirements Manual, PSM 1-84-7, rather than Bombardier Temporary Revision (TR) MRB-45, dated October 6, 2009, to Section 1-32, Systems/Powerplant Maintenance Program, of Part 1 of the Maintenance Review Board Report of the Bombardier Q400 Dash 8 Maintenance Requirements Manual, PSM 1-84-7, for Task 320100-213. The commenter suggested an option of adding a note allowing the removal of Bombardier TR MRB-45, dated October 6, 2009, when it is incorporated into Section 1-32, Systems/Powerplant Maintenance Program, of Part 1 of the Maintenance Review Board Report of the Bombardier Q400 Dash 8 Maintenance Requirements Manual, PSM 1-84-7, through a general revision. The commenter stated that the proposed NPRM would force operators to go back to the manufacturer for a copy of Bombardier TR MRB-45, dated October 6, 2009, because that TR was discarded at the incorporation of permanent Revision 7, dated June 2010, of the Bombardier Q400 Dash 8 Maintenance Requirements Manual, PSM 1-84-7.

We agree with the request to add a note to allow the removal of Bombardier TR MRB-45, dated October 6, 2009, when the information in that TR is included in the general revision of Part 1 of the Maintenance Review Board Report of the Bombardier Q400 Dash 8 Maintenance Requirements Manual, PSM 1-84-7. We have added Note 1 to this AD to specify that the general revisions may be inserted into Section 1-32, Systems/Powerplant Maintenance Program, of Part 1 of Maintenance Review Board Report of the Bombardier Q400 Dash 8 Maintenance Requirements Manual, PSM 1-84-7, provided the relevant information in the general revisions is identical to that in Bombardier TR MRB-45, dated October 6, 2009.

Conclusion

We reviewed the available data, including the comment received, and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 65 products of U.S. registry. We also estimate that it will take about 1 work-hour per product to comply with the basic requirements of this AD. The average labor rate is $85 per work-hour. Based on these figures, we estimate the cost of this AD to the U.S. operators to be $5,525, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a ”significant regulatory action” under Executive Order 12866;

2. Is not a ”significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 21820, April 19, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-18-17 Bombardier, Inc.: Amendment 39-16799. Docket No. FAA-2011-0381; Directorate Identifier 2010-NM-203-AD.

Effective Date

(a) This airworthiness directive (AD) becomes effective October 18, 2011.

Affected ADs

(b) None.

Applicability

(c) This AD applies to Bombardier, Inc. Model DHC-8-400, -401, and -402 airplanes, certificated in any category, serial numbers 4001, 4003 and subsequent.

Subject

(d) Air Transport Association (ATA) of America Code 32: Landing Gear.

Reason

(e) The mandatory continuing airworthiness information (MCAI) states:

Several reports have been received on failures of the main landing gear (MLG) stabilizer extension springs. A landing gear audit has confirmed that the MLG may not lock in the down-lock position with the absence of both MLG stabilizer extension springs. The loss of the locking mechanism could result in the collapse of the main landing gear.

* * * * *

Compliance

(f) You are responsible for having the actions required by this AD performed within the compliance times specified, unless the actions have already been done.

Actions

(g) Within 30 days after the effective date of this AD, revise the maintenance program by incorporating Task 320100-213 as specified in Bombardier Temporary Revision (TR) MRB-45, dated October 6, 2009, to Section 1-32, Systems/Powerplant Maintenance Program, of Part 1 of the Maintenance Review Board Report of the Bombardier Q400 Dash 8 Maintenance Requirements Manual, PSM 1-84-7. The initial compliance time for Task 320100-213 is within 600 flight hours after the effective date of this AD.

Note 1: The actions required by paragraph (g) of this AD may be done by inserting a copy of Bombardier TR MRB-45, dated October 6, 2009, into Section 1-32, Systems/Powerplant Maintenance Program, of Part 1 of the Maintenance Review Board Report of the Bombardier Q400 Dash 8 Maintenance Requirements Manual, PSM 1-84-7. When this TR has been included in the general revisions of Part 1 of the Maintenance Review Board Report of the Bombardier Q400 Dash 8 Maintenance Requirements Manual, PSM 1-84-7, the general revisions may be inserted in Part 1 of the Maintenance Review Board Report of the Bombardier Q400 Dash 8 Maintenance Requirements Manual, PSM 1-84-7, provided the relevant information in the general revisions is identical to that in Bombardier TR MRB-45, dated October 6, 2009.

No Alternative Actions or Intervals

(h) After accomplishing the revision required by paragraph (g) of this AD, no alternative actions (e.g., inspections) or intervals may be used unless the actions or intervals are approved as an alternative method of compliance (AMOC) in accordance with the procedures specified in paragraph (i) of this AD.

FAA AD Differences

Note 2: This AD differs from the MCAI and/or service information as follows: No differences.

Other FAA AD Provisions

(i) The following provisions also apply to this AD:

(1) Alternative Methods of Compliance (AMOCs): The Manager, New York ACO, ANE-170, FAA, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(j) Refer to MCAI Transport Canada Civil Aviation (TCCA) Airworthiness Directive CF-2010-22, dated July 20, 2010; and Bombardier Temporary Revision MRB-45, dated October 6, 2009, to Section 1-32, Systems/Powerplant Maintenance Program, of Part 1 of the Maintenance Review Board Report of the Bombardier Q400 Dash 8 Maintenance Requirements Manual, PSM 1-84-7; for related information.

Material Incorporated by Reference

(k) You must use Bombardier Temporary Revision MRB-45, dated October 6, 2009, to Section 1-32, Systems/Powerplant Maintenance Program, of Part 1 of the Maintenance Review Board Report of the Bombardier Q400 Dash 8 Maintenance Requirements Manual, PSM 1-84-7, to do the actions required by this AD, unless the AD specifies otherwise.

(1) The Director of the Federal Register approved the incorporation by reference of this service information under 5 U.S.C. 552(a) and 1 CFR part 51.

(2) For service information identified in this AD, contact Bombardier, Inc., Q-Series Technical Help Desk, 123 Garratt Boulevard, Toronto, Ontario M3K 1Y5, Canada; telephone 416-375-4000; fax 416-375-4539; e-mail thd.qseries@aero.bombardier.com; Internet http://www.bombardier.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on August 23, 2011.
Ali Bahrami,
Manager, Transport Airplane Directorate, Aircraft Certification Service.

[FR Doc. 2011-22278 Filed 9-12-11; 8:45 am]

BILLING CODE 4910-13-P